DEPARTMENT OF ENERGY

Federal Energy Regulatory Commission

Notice of Application To Amend License and Soliciting Comments, Motions to Intervene, and Protests

December 11, 2006.

Take notice that the following hydroelectric application has been filed with the Commission and is available for public inspection:

a. Application Type: Non-project use of project lands and waters.

b. Project No.: 271-103.

c. Date Filed: November 22, 2006.

d. Applicant: Entergy Arkansas, Inc. (Entergy).

e. Name of Project: Carpenter-Remmel Project.

f. Location: The project is located on the Quachita River in Hot Springs and Garland Counties, Arkansas on Hamilton Lake. The project does not occupy any Federal or tribal lands.

g. Filed Pursuant to: Federal Power Act 16 U.S.C. 791(a)-825(r).

h. Applicant Contact: Blake Hogue, Hydro Operations, Entergy Arkansas, Inc., 141 West County Line Road, Malvern, AR 72104. Phone: (501) 844-2197.

i. FERC Contact: Gina Krump, gina.krump@ferc.gov, 202-502-6704.

j. Deadline for filing comments and or motions: January 12, 2007.

All documents (original and eight copies) should be filed with Ms. Magalie R. Salas, Secretary, Federal Energy Regulatory Commission, 888 First Street, NE., Washington, DC 20426. Comments, protests, and interventions may be filed electronically via the Internet in lieu of paper. See, 18 CFR 385.2001(a)(1)(iii) and the instructions on the Commission's Web site under the “e-Filing” link. Please reference “Carpenter-Remmel Project, FERC Project No. 271-103” on any comments or motions filed.

k. Description of the Application: Entergy requests Commission approval to permit Casa Linda, LLC to construct a non-commercial marina with a total of five boat slips measuring 10-feet wide by 24-feet long with four-foot-wide fingers. Additionally, two 16 foot by 16 foot swim docks will to be placed on each end of the outer boat slips, as well as a boardwalk measuring approximately 400 feet long by 5 feet wide. All facilities will be uncovered-stationary, wooden structures.

l. Locations of the Application: This filing is available for review at the Commission in the Public Reference Room or may be viewed on the Commission's Web site at http://www.ferc.gov using the “E-library” link. Enter the docket number excluding the last three digits in the docket number field to access the document. For assistance, please contact FERC Online Support at FERCOnlineSupport@ferc.gov or toll-free at (866) 208-3676, or for TTY, contact (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E6-21417 Filed 12-14-06; 8:45 am]

BILLING CODE 6717-01-P